DEPARTMENT OF DEFENSE

Department of the Navy

32 CFR Part 706

Certifications and Exemptions Under the International Regulations for Preventing Collisions at Sea, 1972

AGENCY: Department of the Navy, DOD.

ACTION: Final rule.

SUMMARY: The Department of the Navy is amending its certifications and exemptions under the International Regulations for Preventing Collisions at Sea, 1972 (72 COLREGS), to reflect that the Deputy Assistant Judge Advocate General (Admiralty and Maritime Law) has determined that Unmanned Surface Vehicles with hull numbers 11MUC0601, 11MUC0602, 11MUC0603 and 11MUCO604, are vessels of the Navy which, due to their special construction and purpose, cannot fully comply with certain provisions of the 72 COLREGS without interfering with their special function as naval vessels. The intended effect of this rule is to warn mariners in waters where 72 COLREGS apply.

DATES: This rule is effective October 15, 2008 and is applicable beginning 16 June 2008).

FOR FURTHER INFORMATION CONTACT: Commander M. Robb Hyde, JAGC, U.S. Navy, Deputy Assistant Judge Advocate General (Admiralty and Maritime Law), Office of the Judge Advocate General, Department of the Navy, 1322 Patterson Ave., SE., Suite 3000, Washington Navy Yard, DC 20374-5066, telephone 202-685-5040.

SUPPLEMENTARY INFORMATION: Pursuant to the authority granted in 33 U.S.C. 1605, the Department of the Navy amends 32 CFR Part 706. This amendment provides notice that the Deputy Assistant Judge Advocate General (Admiralty and Maritime Law), under authority delegated by the Secretary of the Navy, has certified that Unmanned Surface Vehicles with hull numbers 11MUC0601, 11MUC0602, 11MUC0603 and 11MUCO604 are vessels of the Navy which, due to their special construction and purpose, cannot fully comply with the following specific provisions of 72 COLREGS without interfering with its special function as a naval ship: Rule 21(a), pertaining to the position of the masthead light or lights being located over the fore and aft centerline of the vessel; Annex I, paragraph 2(f)(i), pertaining to the placement of the masthead light or lights above and clear of all other lights and obstructions; Rule 27(b)(i), pertaining to the placement of three all-round lights in a vertical line and Annex I, paragraph 2(i)(ii), pertaining to the vertical separation of the Restricted Maneuvering Light Array lights. The Deputy Assistant Judge Advocate General (Admiralty and Maritime Law) has also certified that the lights involved are located in closest possible compliance with the applicable 72 COLREGS requirements.

Moreover, it has been determined, in accordance with 32 CFR Parts 296 and 701, that publication of this amendment for public comment prior to adoption is impracticable, unnecessary, and contrary to public interest since it is based on technical findings that the placement of lights on this vessel in a manner differently from that prescribed herein will adversely affect the vessel's ability to perform its military functions.

List of Subjects in 32 CFR Part 706

Marine safety, Navigation (water), and Vessels.

For the reasons set forth in the preamble, amend part 706 of title 32 of the Code of Federal Regulations as follows:

PART 706—CERTIFICATIONS AND EXEMPTIONS UNDER THE INTERNATIONAL REGULATIONS FOR PREVENTING COLLISIONS AT SEA, 1972

1. The authority citation for part 706 continues to read:

Authority: 33 U.S.C. 1605.

2. Section 706.2 is amended as follows:

A. In Table Two, by adding, at the end of the table under the “Vessel” category, the following entry for Unmanned Surface Vehicles with hull numbers 11MUC0601, 11MUC0602, 11MUC0603 and 11MUCO604:

B. In Table Four, Paragraph Sixteen by adding, at the end of the table under the “Vessel” category, the following entry for Unmanned Surface Vehicles with hull numbers 11MUC0601, 11MUC0602, 11MUC0603 and 11MUCO604:

C. In Table Four by adding new paragraphs 23 and 24:

§ 706.2 Certifications of the Secretary of the Navy under Executive Order 11964 and 33 U.S.C. 1605.

* * * * *

Table 2
Vessel | Number | Masthead lights, distance to stbd of keel in meters; Rule 21(a) | Forward anchor light, distance below flight dk in meters: § 2(k), Annex I | Forward anchor light, number of; Rule 30(a)(i) | AFT anchor light, distance below flight dk in meters; Rule 21(e), Rule 30(a)(ii) | AFT anchor light, number of; Rule 30(a)(ii) | Side lights, distance below flight dk in meters; § 2(g), Annex I | Side lights, distance forward of forward masthead light in meters; § 3(b), Annex I | Side lights, distance inboard of ship's sides in meters; § 3(b), Annex I
USV | 11MUC0601, 11MUC0602, 11MUC0603, 11MUC0604 | 0.40 |  |  |  |  |  |  |

* * * * *

Table 4

* * * * *

16. * * *

Vessel | Number | Obstruction angle relative ship's headings
USV | 11MUCO601, 11MUCO602, 11MUC0603, 11MUC0604 | 271° thru 278°.

* * * * *

23. On the following ships the verticality of the restricted maneuvering light array do not meet verticality requirements described in Rule 27(b)(i).

Vessel | Number | Verticality of lights, when viewed from directly port or starboard, the lower task light is out of alignment with the upper and middle task light in meters by:
USV | 11MUCO601, 11MUCO602, 11MUC0603, 11MUC0604 | 0.85

24. On the following ships the vertical separation of the Restricted Maneuvering Light Array lights do not meet requirements described in Annex I, paragraph 2(i)(ii).

Vessel | Number | Restricted maneuvering light array, vertical spacing in meters
USV | 11MUCO601, 11MUCO602, 11MUC0603, 11MUC0604 | 0.49

Approved: June 16, 2008.
M. Robb Hyde,
Commander, JAGC, U.S. Navy, Deputy Assistant Judge Advocate, General (Admiralty and Maritime Law).

[FR Doc. E8-24391 Filed 10-14-08; 8:45 am]

BILLING CODE 3810-FF-P